NATIONAL SCIENCE FOUNDATION

Sunshine Act Meetings; National Science Board

The National Science Board (NSB), pursuant to the National Science Foundation Act, as amended, (42 U.S.C. 1864(e) (2)), hereby gives notice that the NSB has updated its delegation of authority to the NSF Director to make awards. The current delegation of authority is presented in the following resolution, adopted by the NSB at its meeting on February 22, 2017.

Resolution NSB-2017-5

National Science Board

Delegation of Award-Approval Authority to the Director

Resolved, that the National Science Board (Board) adopts the delegation of award-approval authority to the National Science Foundation (NSF) Director as below:

(1) The Director of the National Science Foundation may make no award involving an anticipated average annual amount of the greater of either 1 percent or more of the awarding Directorate's or Office's prior year current plan or 0.1 percent or more of the prior year total NSF budget without the prior approval of the National Science Board.

(2) The Director may make no award from the Major Research Equipment and Facilities Construction (MREFC) account without the prior approval of the Board.

(3) Except as provided in paragraphs (1) and (2) or by special resolution of the Board, the Board delegates to the Director authority to make any award within the authority of NSF.

(4) When the Board approves an award, the Director may subsequently amend the award to change the expiration date of the award and/or to commit additional sums, not to exceed the lesser of 10 million dollars or 20 percent of the amount specified in the Board resolution. In the case of procurements, when the Board approves or authorizes the Director to make an award and no amount is specified in the Board resolution, the Director may subsequently amend the award to change the expiration date of the award and/or to commit additional sums not to exceed the lesser of 10 million dollars or 20 percent of the contract ceiling award amount.

(5) The Director will continue to consult with the National Science Board on programs which represent a significant, long-term investment, particularly those which will be funded as an ongoing NSF-wide activity or which involve substantive policy, interagency, or international issues.

(6) This delegation supersedes and replaces the delegation of award-approval authority adopted by the Board in February 2011 (NSB-11-2).

Maria T. Zuber

Chair

Agency Contact:

Ann Bushmiller, abushmil@nsf.gov, 703-292-7000.

Chris Blair,
Executive Assistant, National Science Board Office.

[FR Doc. 2017-04011 Filed 2-24-17; 4:15 pm]

BILLING CODE 7555-01-P